DEPARTMENT OF HEALTH AND HUMAN SERVICES

National Institutes of Health

National Institute of Environmental Health Sciences; Amended Notice of Meeting

Notice is hereby given of a change in the meeting of the National Institute of Environmental Health Sciences Special Emphasis Panel, March 14, 2006, 8 a.m. to March 15, 2006, 5 p.m., The Radisson Governor's Inn, I-40 at Davis Drive, Exit 280, Research Triangle Park, NC, 27709 which was published in the Federal Register on February 15, 2006, FR 71 31.

The meeting will be held in the Hawthorne Suites, 300 Meredith Drive, Durham, NC 27713. The meeting is closed to the public.

Dated: February 28, 2006.
Anna Snouffer,
Acting Director, Office of Federal Advisory Committee Policy.

[FR Doc. 06-2220 Filed 3-8-06; 8:45 am]

BILLING CODE 4140-01-M